DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by the MSHA's Office of Standards, Regulations, and Variances on or before March 24, 2016.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Acting Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2016-001-C.

Petitioner: Peabody Energy Company, 12968 Illinois State Route 13, Coulterville, Illinois 62237.

Mine: Gateway North Mine, MSHA I.D. No. 11-03235, located in Randolph County, Illinois.

Regulation Affected: 30 CFR 75.503 (Permissible electric face equipment; maintenance).

Modification Request: The petitioner requests a modification of the existing standard to permit the maximum length of trailing cables to be increased to 950 feet for the 480-volt three-phase alternating current Roof Bolting machines. The petitioner states that:

(1) The maximum length of the three-phase trailing cables will be 950 feet.

(2) The 480-volt trailing cables will not be smaller than No. 2 American Wire Gauge (AWG), type SHD-GC.

(3) All circuit breakers used to protect No. 2 AWG type SHD-GC trailing cables exceeding 700 feet in length will have instantaneous trip units calibrated to trip at 800 amperes. The trip setting of these circuit breakers will be sealed or locked so that the setting cannot be changed, and the circuit breakers will have permanent, legible labels. Each label will identify the circuit breaker as being suitable for protecting No. 2 AWG type SHD-GC cables. The label will be legible.

(4) Replacement instantaneous trip units used to protect No. 2 AWG type SHD-GC trailing cables will be calibrated to trip at 800 amperes and this setting will be sealed or locked.

(5) All components that provide short-circuit protection will have sufficient interruption rating in accordance with the maximum calculated fault currents available.

(6) Short-circuit settings must not exceed the setting specified in the approval documentation or 70 percent of the minimum available current, whichever is less.

(7) Any trailing cable that is not in safe operating condition will be removed from service immediately and repaired or replaced.

(8) Each splice or repair in the trailing cables will be made in a workmanlike manner and in accordance with the instructions of the manufacturer of the splice repair kit. The outer jacket of each splice or repair will be vulcanized with flame resistant material or made with material that has been accepted by MSHA as flame resistant.

(9) In the event that mining method or operating procedures cause or contribute to the damage of any trailing cable, the trailing cable will be removed from service immediately, repaired, replaced, and additional precautions will be taken to ensure that, in the future, the cable is protected and maintained in safe operating condition.

(10) During each production day, persons designated by the mine operator will visually examine the trailing cables to ensure the cables are in safe operating condition. The instantaneous settings of the specially calibrated circuit breakers will also be examined to ensure that the seals or locks have not been removed and that they do not exceed the settings stipulated in items 3 and 4.

(11) Permanent warning labels will be installed and maintained on the cover(s) of the power center identifying the location of each sealed short-circuit protective device. The labels will warn miners not to change or alter these short-circuit settings.

(12) All miners who have been designated to examine the integrity of the seals, verify short-circuit settings, and examine trailing cables for defects will receive training under 30 CFR Part 48. The training will include the following:

(a) Mining methods and operating procedures for protecting the trailing cables against damage.

(b) Proper procedures for examining the trailing cables to ensure safe operating condition.

(c) The hazards of setting the short-circuit interrupting devices too high to adequately protect the cables.

(d) How to verify that the circuit interrupting device(s) protecting the trailing cable(s) are properly set and maintained. The procedures as specified in 30 CFR 48.3 for approval of proposed revisions to already approved training plans will apply.

The petitioner asserts that the alternative method will guarantee no less than the same measure of protection for all miners than that of the existing standard.

Sheila McConnell,
Acting Director, Office of Standards, Regulations, and Variances.

[FR Doc. 2016-03726 Filed 2-22-16; 8:45 am]

BILLING CODE 4520-43-P